DEPARTMENT OF THE INTERIOR

Fish and Wildlife Service

[Docket No. FWS-R7-ES-2023-0008; FF07CAMM00-FX-ES111607MRG01]

Marine Mammals; Letters of Authorization To Take Pacific Walruses and Polar Bears in the Beaufort Sea, Alaska, in 2022

AGENCY: Fish and Wildlife Service, Interior.

ACTION: Notice of issuance.

SUMMARY: In accordance with the Marine Mammal Protection Act of 1972, as amended, the U.S. Fish and Wildlife Service issued letters of authorization (LOA) for the nonlethal take of polar bears and Pacific walruses incidental to oil and gas industry exploration, development, and production activities in the Beaufort Sea and the adjacent northern coast of Alaska in 2022. This notice announces the LOAs issued in calendar year 2022. The LOAs stipulate conditions and methods that minimize impacts to polar bears and Pacific walruses from these activities.

ADDRESSES: Document availability: You may view the letters of authorization at https://www.regulations.gov under Docket No. FWS-R7-ES-2023-0008, or you may request them from the contact in FOR FURTHER INFORMATION CONTACT.

FOR FURTHER INFORMATION CONTACT: Charles Hamilton, via U.S. mail at Marine Mammals Management, U.S. Fish and Wildlife Service, MS 341, 1011 East Tudor Road, Anchorage, AK 99503; by email at R7mmmRegulatory@fws.gov, or by telephone at 1-800-362-5148. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: On August 5, 2021, the U.S. Fish and Wildlife Service (Service) published in the Federal Register a final rule (86 FR 42982) establishing regulations that allow us to authorize the nonlethal, incidental, unintentional take of small numbers of polar bears (Ursus maritimus) and Pacific walruses (Odobenus rosmarus divergens) during year-round oil and gas industry exploration, development, and production activities in the Beaufort Sea and adjacent northern coast of Alaska. These incidental take regulations are located in subpart J in part 18 of title 50 of the Code of Federal Regulations (CFR) and are effective through August 5, 2026. The rule prescribed a process under which we issue letters of authorization (LOA) to applicants conducting activities as described under the provisions of the regulations.

Each LOA stipulates conditions or methods that are specific to the activity and location. Holders of the LOAs must use methods and conduct activities in a manner that minimizes to the greatest extent practicable adverse impacts on Pacific walruses and polar bears and their habitat, and on the availability of these marine mammals for subsistence purposes. No intentional take or lethal incidental take is authorized under these regulations.

In accordance with section 101(a)(5)(A) of the Marine Mammal Protection Act (16 U.S.C. 1361 et seq.) and our regulations at 50 CFR part 18, subpart J, in 2022, we issued LOAs to the companies in the Beaufort Sea and adjacent northern coast of Alaska shown in the table. The Service includes in the table all LOAs issued in 2022.

Letters of Authorization Issued for Oil and Gas Development Activities in the Beaufort Sea, Alaska, in 2022
Company | Project | LOA No.
ASRC Consulting and Environmental Services | Well drilling for a methane hydrate project on the Kuparuk State 7-11-12 gravel pad within the Prudhoe Bay Unit on the North Slope of Alaska | 22-01.
Conoco Philips Alaska Inc | Incidental take of polar bears that may occur during ConocoPhillips Alaska Inc.'s 3D seismic acquisition at and surrounding the Alpine CD1 Pad | 22-02.
Eni U.S. Operating Company Inc | Oil and gas drilling and production within the Nikaitchuq and Oooguruk Units on Alaska's North Slope | 22-03.
Oil Search Alaska, LLC | Oil and gas exploration and development within and adjacent to the Pikka Unit area and oil and gas exploration on Oil Search Alaska operated leaseholds on Alaska's North Slope | 22-04.
Alyeska Pipeline Service Company | Operation and maintenance of the Trans Alaska Pipeline System, which extends from Pump Station 1 in the Prudhoe Bay Oilfield to the Valdez Marine Terminal | 22-05.
ASRC Consulting and Environmental Services | Well drilling and production test facility construction and operation for a methane hydrate project on the Kuparuk State 7-11-12 gravel pad within the Prudhoe Bay Unit on the North Slope of Alaska | 22-06.
Glacier Oil and Gas | Incidental harassment of polar bears and Pacific walrus that may occur during Glacier Oil and Gas Corporation's oil production, facilities and pipeline maintenance, workovers of existing wells, and construction and maintenance of ice roads associated with the Badami oilfield near Mikkelsen Bay in the North Slope | 22-07.
Hilcorp Alaska, LLC | Year-round oil and gas exploration, production, development, and support activities in the Milne Point, Duck Island (Endicott), Northstar Island, Prudhoe Bay, and Point Thomson operation areas located in the Beaufort Sea Incidental Take Regulations area of the North Slope of Alaska | 22-08.
Conoco Philips Alaska Inc | Incidental take of polar bears and Pacific walrus that may occur during ConocoPhillips Alaska Inc.'s field-wide operations in the Kuparuk River, Western North Slope, Colville River, Greater Moose's Tooth, and Bear Tooth Units on the North Slope of Alaska | 22-09.
Conoco Philips Alaska, Inc | The incidental take of polar bears that may occur during ConocoPhillips Alaska Inc.'s year 1 construction activities and geotechnical investigations for the Willow Development Project located in the Bear Tooth, Greater Mooses Tooth, Colville River, Pikka, Southern Miluveach, and Kuparuk River Units of the North Slope of Alaska, as well as non-unitized lands east of the Colville River | 22-10.
Hilcorp Alaska, LLC | An amendment dated March 9, 2022, to the letter of authorization (LOA) for the alteration of a previously covered tundra travel route extending from Deadhorse to Point Thomson and the addition of a secondary tundra travel route extending from the western portion of the Point Thomson Unit coastal route to the Bullen Point Staging Pad. The requested LOA is for the incidental take of polar bears and Pacific walrus that may occur during operational and tundra travel activities in support of the Point Thomson Production Facility on the North Slope of Alaska | 21-01 [Amended in 2022 from 2021].
Oil Search Alaska, LLC | An amendment dated January 26, 2022, to the LOA 21-03 [corrected] issued on October 15, 2021, for the incidental take of small numbers of polar bears. The amended LOA is for the incidental take of small numbers of polar bears that may occur during Oil Search (Alaska) (OSA), LLC's activities associated with oil and gas exploration and development within and adjacent to the Pikka Unit area and oil and gas exploration on OSA-operated leaseholds on Alaska's North Slope. Planned activities occurred from January 28, 2022, to August 6, 2022 | 21-03 [Amended in 2022 from 2021].
Hilcorp Alaska, LLC | An amendment dated January 3, 2022, to the LOA issued on August 5, 2021, for the incidental take of polar bears and Pacific walrus. The Service considered additional information provided by Hilcorp Alaska, LLC, in the Milne Point, Duck Island (Endicott), Northstar Island, and Prudhoe Bay operation areas located in the Beaufort Sea Incidental Take Regulations Area of the North Slope of Alaska. Planned activities occurred from January 3, 2022, to August 5, 2022 | 21-05 [Amended in 2022 from 2021].

Authority: We issue this notice under the authority of the Marine Mammal Protection Act (16 U.S.C. 1361 et seq.).

Peter Fasbender,
Assistant Regional Director, Fisheries and Ecological Services, Alaska Region.

[FR Doc. 2023-14442 Filed 7-7-23; 8:45 am]

BILLING CODE 4333-15-P